DEPARTMENT OF TRANSPORTATION

Federal Railroad Administration

Creation of an Electronic Docket for a Pending Environmental Impact Review on the Dakota, Minnesota and Eastern Railroad's Powder River Basin Expansion Project Railroad Rehabilitation and Improvement Financing Program Loan Application

AGENCY: Federal Railroad Administration (FRA), Department of Transportation (DOT).

ACTION: Notice of the Creation of an Electronic Docket for the Comments Received on the FRA's Adoption of the Environmental Impact Statements Issued by the Surface Transportation Board and FRA's Draft Section 4(f)/303 Statement and Participation as a Concurring Party to a Section 106 Programmatic Agreement.

SUMMARY: FRA is announcing the creation of an electronic docket containing comments submitted to the agency in connection with the agency's environmental and historic preservation review of the Dakota, Minnesota and Eastern Railroad's application for loan to carry out its Powder River Basin Expansion Project.

FOR FURTHER INFORMATION CONTACT: David Valenstein, Environmental Program Manager, 1120 Vermont Avenue, NW., Mail Stop 20, Washington, DC 20590; Phone (202) 493-6368.

SUPPLEMENTARY INFORMATION: In an August 18, 2006 Federal Register notice, FRA announced that it had received an application from the Dakota, Minnesota & Eastern Railroad Corporation (DM&E) for a $2.3 billion loan under the Railroad Rehabilitation and Improvement Financing (RRIF) program to fund the railroad's Powder River Basin Expansion Project (Project) to construct approximately 280 miles of new rail line to reach the coal mines of Wyoming's Powder River Basin and to reconstruct another approximately 600 miles of DM&E's existing rail line to allow operation of unit coal trains along the reconstructed route to and from the new line. DM&E had received permission to undertake the Project from the Surface Transportation Board (STB) in a February 15, 2006 decision (see Finance Docket 33407). The STB had prepared a detailed environmental review of the Project pursuant to the National Environmental Policy Act. As authorized by Council on Environmental Quality (CEC) Regulations, FRA decided to adopt the Environmental Impact Statement (EIS) and Supplemental Environmental Impact Statement (SEIS) issued by the STB for Project. Consistent with the CEQ regulations, FRA recirculated the STB's EIS and SEIS. EPA's publication in the Federal Register of the notice of availability also occurred on August 18, 2006. FRA also announced the availability of a draft section 4(f)/303 Statement prepared for the Project by the FRA pursuant to section 4(f) of the Department of Transportation Act (49 U.S.C. 303(c)) and that the FRA was seeking to participate as a concurring party in the existing section 106 Programmatic Agreement. FRA further indicated in the Federal Register notice that it would accept public comment on its announced actions through October 10, 2006.

FRA is now announcing that in light of the substantial volume of comments received it is creating an electronic docket containing the comments that were submitted. The electronic docket is available through the DOT Docket Management System (DMS) and is found at http://dms.dot.gov/. The docket number for this environmental review is FRA 2006-26099. For access to the docket to read background documents or comments received, go to http://dms.dot.gov at any time or to PL-401 on the plaza level of the Nassif Building, 400 Seventh Street, SW., Washington, DC between 9 a.m. and 5 p.m. Monday through Friday, except Federal holidays. The electronic docket will facilitate public access to the comments and enhance FRA's ability to evaluate and address the comments. While creation of an electronic docket is not the agency's normal practice for environmental reviews, the special circumstances present in this proceeding made this an attractive option for the agency. The DMS staff will add the submitted comments as expeditiously as possible and comments will be available as they are added to the system.

Note that comments received will be posted without change to http://dms.dot.gov including any personal information. All commenters should be aware that anyone is potentially able to search the electronic form of comments received into any agency docket depending on how the comments are entered into the docket system. You may review DOT's complete Privacy Act Statement in the Federal Register published on April 11, 2000 (Volume 65, Number 70; pages 19477-78) or you may visit http://dms.dot.gov. If anyone does not want their submitted comment to be included in the Docket because they would not have submitted the comment had they been aware that it would be included in an electronic docket, please contact the DMS office at: http://dms.dot.gov/Support/ or 1-800-647-5527.

Issued in Washington, DC on October 31, 2006.
Joseph H. Boardman,
Federal Railroad Administrator.

[FR Doc. E6-18730 Filed 11-6-06; 8:45 am]

BILLING CODE 4910-06-P